DEPARTMENT OF THE INTERIOR

Bureau of Land Management

[NV-030-5700-BX; Closure Notice No. NV-030-02-001]

Temporary Closure of Public Lands; Washoe County, NV

AGENCY: Bureau of Land Management, Nevada, Interior.

SUMMARY: The Carson City Field Office Manager announces the temporary closure of selected public lands under his administration. This action is being taken to provide for public safety during the 2002 Pylon Racing Seminar and 2002 Reno National Championship Air Races.

EFFECTIVE DATES: September 8 through September 15, 2002.

FOR FURTHER INFORMATION CONTACT: Charles P. Pope, Assistant Manager, Nonrenewable Resources, Carson City Field Office, 5665 Morgan Mill Road, Carson City, Nevada 89701. Telephone (775) 885-6000.

SUPPLEMENTARY INFORMATION: This closure applies to all the public, on foot or in vehicles. The public lands affected by this closure are described as follows:

Mt. Diablo Meridian

T. 21 N., R. 19 E.,

Sec. 8, N½NE¼, SE¼NE¼ and E½SE¼;

Sec. 16, N½ and SW¼.

Aggregating approximately 680 acres.

The above restrictions do not apply to emergency or law enforcement personnel or event officials. The authority for this closure is 43 CFR 8364.1. Persons who violate this closure order are subject to arrest and, upon conviction, may be fined not more than $1,000 and/or imprisoned for not more than 12 months.

A map of the closed area is posted in the Carson City Field Office of the Bureau of Land Management.

Dated: June 4, 2002.
Charles P. Pope,
Assistant Manager, Nonrenewable Resources, Carson City Field Office.

[FR Doc. 02-22587 Filed 9-04-02; 8:45 am]

BILLING CODE 4310-HC-M